DEPARTMENT OF STATE

[Public Notice 5478]

Gifts to Federal Employees From Foreign Government Sources Reported to Employing Agencies in Calendar Year 2004; Correction

ACTION: Notice; correction.

SUMMARY: On June 15, 2006, Notice was published in the Federal Register (71 FR 34710) pertaining to the reporting of “Gifts to Federal Employees from Foreign Government Sources Reported to Employing Agencies in Calendar Year 2004.” The referenced Notice is hereby corrected to change the identity of foreign donor and government of a gift given to General Richard B. Myers, Chairman, Joint Chiefs of Staff, on October 21, 2004 from General Kim Jong il, General Secretary Korean Workers Party Hwan-CJCS ROK to General Kim Jong Hwan, Chairman, Joint Chiefs of Staff, the Republic of Korea.

FOR FURTHER INFORMATION CONTACT: For further information contact Tiffany Divis, the Office of the Chief of Protocol, U.S. Department of State, (telephone: 202/647-1161). The address is: U.S. Department of State, S/CPR, Room 1238, 2201 C Street, NW., Washington, DC 20520-1238.

Dated: July 18, 2006.
Henrietta H. Fore,
Under Secretary for Management, Department of State.

[FR Doc. E6-12111 Filed 7-27-06; 8:45 am]

BILLING CODE 4710-10-P